DEPARTMENT OF ENERGY

Federal Energy Regulatory Commission

[Project No. 14703-000]

Empire State Hydro 302, LLC; Notice of Preliminary Permit Application Accepted for Filing and Soliciting Comments, Motions To Intervene, and Competing Applications

On August 25, 2015, Empire State Hydro 302, LLC, filed an application for a preliminary permit, pursuant to section 4(f) of the Federal Power Act (FPA), proposing to study the feasibility of the Braendly Dam Hydroelectric Project to be located on Fishkill River in Dutchess County, New York. The sole purpose of a preliminary permit, if issued, is to grant the permit holder priority to file a license application during the permit term. A preliminary permit does not authorize the permit holder to perform any land-disturbing activities or otherwise enter upon lands or waters owned by others without the owners' express permission.

The proposed project would redevelop an abandoned project and consist of: (1) An existing 130-foot-long, 18-foot-high cut stone with a concrete cap dam creating a reservoir with a surface area of approximately 3 acres and a storage capacity of 15 acre-feet at a normal water surface elevation of 119.5 feet mean sea level; (2) a new 6-foot-diameter, 300-foot-long steel penstock; (3) a new 50-foot-long by 35-foot-wide powerhouse containing two Kaplan turbine units with a rated capacity of 450 kilowatts each; and (4) a new 12.7-kilovolt, 500-foot-long transmission line. The project would have an annual generation of 3,200 megawatt-hours.

Applicant Contact: Mark Boumansour, Empire State Hydro 302, LLC, 1401 Walnut Street, Suite 220, Boulder, CO 80302; phone: 303-440-3378.

FERC Contact: Monir Chowdhury; phone: (202) 502-6736.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street, NE., Washington, DC 20426. The first page of any filing should include docket number P-14703-000.

More information about this project, including a copy of the application, can be viewed or printed on the “eLibrary” link of the Commission's Web site at http://www.ferc.gov/docs-filing/elibrary.asp. Enter the docket number (P-14703) in the docket number field to access the document. For assistance, contact FERC Online Support.

Dated: October 22, 2015.
Kimberly D. Bose,
Secretary.

[FR Doc. 2015-27407 Filed 10-27-15; 8:45 am]

BILLING CODE 6717-01-P